DEPARTMENT OF TRANSPORTATION

Pipeline and Hazardous Materials Safety Administration

49 CFR Parts 172 and 178

[Docket No. PHMSA-2007-29245 (HM-244)]

RIN 2137-AE30

Hazardous Materials Regulations: Minor Editorial Corrections and Clarifications

Correction

In rule document E7-19138 beginning on page 55678 in the issue of Monday, October 1, 2007, make the following corrections:

§ 172.101 [Corrected]

1. On page 55690, in § 172.101, in the table, in the last row, in the seventh column, “None” should read “....”.

2. On the same page, in the same section, in the same table, in the same row, in the eighth column, “62” should read “None”.

3. On the same page, in the same section, in the same table, in the same row, in the ninth column, “None” should read “62”.

4. On the same page, in the same section, in the same table, in the same row, in the 10th column, “Forbidden” should read “None”.

5. On the same page, in the same section, in the same table, in the same row, in the 12th column, “08” should read “Forbidden”.

6. On the same page, in the same section, in the same table, in the same row, in the 13th column, “8E, 14E, 15E, 17E” should read “08”.

7. On the same page, in the same section, in the same table, in the same row, the 14th column should read “8E, 14E, 15E, 17E”.

§ 178.348-4 [Corrected]

8. On page 55696, in § 178.348-4(d)(3), in the second column, in the first line,

C = 520[K(2/(K+1))[(K+1)/(K−1)]]0.5

should read

C = 520[K(2/(K+1))[(K+1)/(K−1)]]0.5.

[FR Doc. Z7-19138 Filed 10-17-07; 8:45 am]

BILLING CODE 1505-01-D